DEPARTMENT OF THE INTERIOR

Bureau of Reclamation

Los Vaqueros Reservoir Expansion, Contra Costa and Alameda Counties, CA

AGENCY: Bureau of Reclamation, Interior.

ACTION: Notice of availability of the Final Environmental Impact Statement/Environmental Impact Report (Final EIS/EIR).

SUMMARY: The Bureau of Reclamation, as the National Environmental Policy Act Federal lead agency, and the Contra Costa Water District, as the California Environmental Quality Act lead agency, have prepared the Los Vaqueros Reservoir Expansion Final EIS/EIR. Los Vaqueros Expansion is a proposed action in the August 2000 CALFED Bay-Delta Program Programmatic Record of Decision. The Final EIS/EIR evaluated two options for expanding Los Vaqueros Reservoir from its existing capacity of 100 thousand acre-feet (TAF). A 175 TAF expansion option would expand the reservoir to 275 TAF. This expansion option would be operated for environmental water management and San Francisco Bay Area water supply reliability. A 60 TAF expansion option would expand the reservoir to 160 TAF. This second option would primarily be operated to improve Contra Costa Water District (CCWD) dry year water supply reliability and water quality.

A Notice of Availability of the Draft EIS/EIR was published in the Federal Register on February 20, 2009 (74 FR 7922). The written comment period on the Draft EIS/EIR ended on April 21, 2009. The Final EIS/EIR contains responses to all written comments received during the review period.

DATES: Reclamation will not make a decision on the project until at least 30 days after release of the Final EIS/EIR. After a 30-day waiting period, Reclamation may complete a Record of Decision (ROD). The ROD will state the action to be implemented and will discuss all the factors leading to that decision.

ADDRESSES: Copies of the Final EIS/EIR may be requested from Ms. Sharon McHale, Bureau of Reclamation, 2800 Cottage Way, Sacramento, CA 95825; by calling 916-978-5086 (TTY 916-978-5608); or by e-mailing smchale@usbr.gov. The Final EIS/EIR is also accessible from the following Web site: http://www.usbr.gov/mp/nepa/nepa_projdetails.cfm?Project_ID=903.

FOR FURTHER INFORMATION CONTACT: Ms. Sharon McHale at 916-978-5086, or by e-mail at smchale@usbr.gov.

SUPPLEMENTARY INFORMATION: The Final EIS/EIR documents the direct, indirect, and cumulative physical, biological, and socioeconomic environment effects that may result from the construction and operation of the 60 TAF expansion and 175 expansion of Los Vaqueros Reservoir.

The Final EIS/EIR documents the evaluation of four alternatives, including No Action. The primary study area includes the Los Vaqueros Reservoir watershed and associated dam and reservoir facilities, which are situated in the coastal foothills west of the Delta and east of the San Francisco Bay Area, the central and south Delta, and service areas of San Francisco Bay Area water agencies.

Copies of the Final EIS/EIR are available for public review at the following locations:

• Bureau of Reclamation, Mid-Pacific Region, Regional Library, 2800 Cottage Way, Sacramento, CA 95825.

• Bureau of Reclamation, Denver Office Library, Building 67, Room 167, Denver Federal Center, 6th and Kipling, Denver, CO 80225.

• Contra Costa Water District, 2411 Bisso Lane, Concord, CA 94524.

• Natural Resources Library, U.S. Department of the Interior, 1849 C Street, NW., Main Interior Building, Washington, DC 20240-0001.

Public hearings were held on March 23, 2009 in Sacramento, California; on March 24, 2009 in Livermore, California; on March 26, 2009 in Dublin, California; on March 31, 2009 in Concord, California; and on April 2, 2009 in Oakley, California.

Public Disclosure: Before including your name, address, phone number, e-mail address, or other personal identifying information in any correspondence, you should be aware that your entire correspondence—including your personal identifying information—may be made publicly available at any time. While you can ask us in your correspondence to withhold your personal identifying information from public review, we cannot guarantee that we will be able to do so.

Dated: January 27, 2010.
Mike Chotkowski,
Acting Regional Director, Mid-Pacific Region.

[FR Doc. 2010-6024 Filed 3-18-10; 8:45 am]

BILLING CODE 4310-MN-P